DEPARTMENT OF HEALTH AND HUMAN SERVICES

Centers for Disease Control and Prevention

Notice of Award of a Single Source Cooperative Agreement To Fund California Department of Public Health; Chicago Department of Public Health; Delaware Department of Health and Social Services; Florida Department of Health; Georgia Department of Public Health; Houston Department of Health and Human Services; Illinois Department of Public Health; Indiana State Department of Health; Los Angeles County Department of Public Health; Michigan Department of Health and Human Services; Mississippi State Department of Health; New Jersey Department of Health and Senior Services; New York City Department of Health and Mental Hygiene; New York State Department of Health; North Carolina Department of Health and Human Services; Oregon Health Authority; Pennsylvania Department of Health; Philadelphia Department of Public Health; Puerto Rico Department of Health; San Francisco Department of Public Health; Texas Department of State Health Services; Virginia Department of Health; and Washington State Department of Health

AGENCY: Centers for Disease Control and Prevention (CDC), Department of Health and Human Services (HHS).

ACTION: Notice.

SUMMARY: The Centers for Disease Control and Prevention (CDC), located within the Department of Health and Human Services (HHS), announces 23 separate awards to fund the California Department of Public Health; Chicago Department of Public Health; Delaware Department of Health and Social Services; Florida Department of Health; Georgia Department of Public Health; Houston Department of Health and Human Services; Illinois Department of Public Health; Indiana State Department of Health; Los Angeles County Department of Public Health; Michigan Department of Health and Human Services; Mississippi State Department of Health; New Jersey Department of Health and Senior Services; New York City Department of Health and Mental Hygiene; New York State Department of Health; North Carolina Department of Health and Human Services; Oregon Health Authority; Pennsylvania Department of Health; Philadelphia Department of Public Health; Puerto Rico Department of Health; San Francisco Department of Public Health; Texas Department of State Health Services; Virginia Department of Health; and Washington State Department of Health.

The total amount of awards is approximately $16,305,555 in Federal Fiscal Year (FFY) 2025, with an expected total funding of approximately $81,527,775 for the five-year period of performance, subject to availability of funds. The awards will support implementation of the Medical Monitoring Project (MMP), an ongoing public health surveillance program funded since 2005 and designed to learn more about the experiences and needs of adults aged 18 or older living with HIV (PWH) in the United States.

DATES: The period for these awards will be June 1, 2025, through May 31, 2030.

FOR FURTHER INFORMATION CONTACT: Jason Craw, National Center for HIV, Viral Hepatitis, STD and TB Prevention, Centers for Disease Control and Prevention, 1600 Clifton Road, MS H24-5, Atlanta, GA 30333, Telephone: (404) 639-6395, E-Mail: jcraw@cdc.gov.

SUPPLEMENTARY INFORMATION: The single source award will support the collection of comprehensive clinical and behavioral information from persons carefully sampled to represent everyone diagnosed with HIV in the U.S. The data are collected through in-person or telephone interviews with participants and a two-year medical chart abstraction for all persons who have been in care. MMP produces nationally representative data on important sociodemographic, behavioral, and clinical characteristics among PWH in the U.S. MMP reports essential data on barriers to care and viral suppression, including social determinants of health and indicators of quality of life among PWH that are used to plan and monitor state and local HIV programs, inform national HIV clinical guidelines and assess national progress towards meeting the goals of the National HIV/AIDS Strategy for the United States 2022-2025, the Ending the HIV Epidemic in the United States (EHE) initiative, the HIV Care Continuum, and CDC's High-Impact Prevention (HIP) approach.

The 23 previously listed state, local and territorial health departments are in a unique position to conduct this work as (1) they are the only entities with legal authority to mandate the collection of public health surveillance data in their jurisdictions, (2) they can continue monitoring and reporting MMP data without lapse and (3) their selection can ensure adherence to the project's established scientific sampling strategy that ensures the national representativeness of MMP data.

Summary of the Award

Recipient: California Department of Public Health; Chicago Department of Public Health; Delaware Department of Health and Social Services; Florida Department of Health; Georgia Department of Public Health; Houston Department of Health and Human Services; Illinois Department of Public Health; Indiana State Department of Health; Los Angeles County Department of Public Health; Michigan Department of Health and Human Services; Mississippi State Department of Health; New Jersey Department of Health and Senior Services; New York City Department of Health and Mental Hygiene; New York State Department of Health; North Carolina Department of Health and Human Services; Oregon Health Authority; Pennsylvania Department of Health; Philadelphia Department of Public Health; Puerto Rico Department of Health; San Francisco Department of Public Health; Texas Department of State Health Services; Virginia Department of Health; and Washington State Department of Health.

Purpose of the Award: The purpose of these awards is to support implementation of NOFO PS25-0008 Medical Monitoring Project (MMP), an ongoing public health surveillance program funded since 2005 and designed to learn more about the experiences and needs of adults aged 18 or older living with HIV (PWH) in the United States.

Amount of Award: The total amount of awards is approximately $16,305,556 in Federal Fiscal Year (FFY) 2025, with an expected total funding of approximately $81,527,780 for the five-year period of performance, subject to availability of funds. The below table lists proposed FFY 2025 award amounts per recipient, subject to availability of funds.

Recipient name | Proposed FY25 awards (subject to availability of funding)
California Department of Public Health | $955,472
Chicago Department of Public Health | 687,266
Delaware Health and Social Services | 390,713
Florida Department of Health | 1,034,315
Georgia Department of Public Health | 817,044
Houston Health Department | 738,464
Illinois Department of Public Health | 516,350
Indiana State Department of Health | 514,626
Los Angeles County Department of Public Health | 874,378
Michigan Department of Health and Human Services | 688,444
Mississippi State Department of Health | 489,198
New Jersey Department of Health and Senior Services | 898,374
New York City Department of Health and Mental Hygiene | 1,306,704
New York State Department of Health | 594,625
North Carolina Department of Health and Human Services | 687,023
Oregon Health Authority | 794,810
Pennsylvania Department of Health | 524,656
Philadelphia Department of Public Health | 579,853
Puerto Rico Department of Health | 431,047
San Francisco Department of Public Health | 643,882
Texas Department of State Health Services | 735,652
Virginia Department of Health | 664,068
Washington State Department of Health | 738,592

Period of Performance: June 1, 2025, through May 31, 2030.

Authority: This program is authorized under Section 318 of the Public Health Service Act (42 U.S.C. 247c, as amended).

Dated: August 21, 2024.
Terrance Perry,
Acting Director, Office of Grants Services, Centers for Disease Control and Prevention.

[FR Doc. 2024-19298 Filed 8-27-24; 8:45 am]

BILLING CODE 4163-18-P